SMALL BUSINESS ADMINISTRATION

[License No.: 09/09-5370]

Notice of Surrender of License

Notice is hereby given that Astar Capital Corporation, located at 9537 E. Gidley Street, Temple City, CA 91780, has surrendered its license to operate as a small business investment company under the Small Business Investment Act of 1958, as amended (the Act). Astar Capital Corp. was licensed by the Small Business Administration on 11/06/86.

Under the authority vested by the Act and pursuant to the Regulations promulgated thereunder, the surrender was acted on this date, and accordingly, all rights, privileges and franchises derived therefrom have been terminated.

(Catalog of Federal Domestic Assistance Program No. 59.11, Small Business Investment Companies)
Dated: March 10, 2000.
Don A. Christensen,
Associate Administrator for Investment.

[FR Doc. 00-6695 Filed 3-16-00; 8:45 am]

BILLING CODE 8025-01-P